DEPARTMENT OF EDUCATION

Applications for New Awards; Centers for International Business Education Program

AGENCY: Office of Postsecondary Education, Department of Education.

ACTION: Notice.

SUMMARY: The Department of Education is issuing a notice inviting applications for fiscal year (FY) 2018 for the Centers for International Business Education Program (CIBE), Catalog of Federal Domestic Assistance (CFDA) number 84.220A.

DATES:

Applications Available: May 14, 2018.

Deadline for Transmittal of Applications: June 13, 2018.

Deadline for Intergovernmental Review: August 13, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Timothy Duvall, U.S. Department of Education, 400 Maryland Avenue SW, Room 258-54, Washington, DC 20202-4260. Telephone: (202) 453-7521. Email: timothy.duvall@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the CIBE Program is to provide funding to institutions of higher education or consortia of such institutions for curriculum development, research, and training on issues of importance to U.S trade and competitiveness.

Priorities: This notice contains two competitive preference priorities and one invitational priority. The competitive preference priorities for fiscal year (FY) 2018 are from the notice of final priorities for this program published in the Federal Register on June 3, 2014 (79 FR 31870).

Competitive Preference Priorities: For FY 2018, these priorities are competitive preference priorities. Under 34 CFR 75.105(c)(2)(i), we award up to an additional five points depending on how well the application meets Competitive Preference Priority 1, and up to an additional five points depending on how well the application meets Competitive Preference Priority 2. An applicant may receive a total of up to 10 additional points under the competitive preference priorities.

These priorities are:

Competitive Preference Priority 1—Collaboration with a Professional Association or Business (up to 5 points).

Applications that propose to collaborate with one or more professional associations and/or businesses on activities designed to expand employment opportunities for international business students, such as internships and work-study opportunities.

Competitive Preference Priority 2—Collaboration with Minority-Serving Institutions (MSIs) or Community Colleges (up to 5 points).

Applications that propose significant and sustained collaborative activities with one or more Minority-Serving Institutions (MSIs) (as defined in this notice) and/or with one or more community colleges (as defined in this notice).

These activities must be designed to incorporate international, intercultural, or global dimensions into the business curriculum of the MSI(s) and/or community college(s). If an applicant institution is an MSI (as defined in this notice), that institution may propose intra-campus collaborative activities instead of, or in addition to, collaborative activities with other MSIs or community colleges.

For the purpose of this priority:

Community college means an institution that meets the definition in section 312(f) of the Higher Education Act of 1965, as amended (HEA) (20 U.S.C. 1058(f)); or an institution of higher education as defined in section 101 of the HEA (20 U.S.C. 1001)) that awards degrees and certificates, more than 50 percent of which are not bachelor's degrees (or an equivalent) or master's, professional, or other advanced degrees.

Minority-Serving Institution (MSI) means an institution that is eligible to receive assistance under sections 316 through 320 of part A of Title III, under part B of Title III, or under Title V of the HEA. The institutions designated eligible under Title III and Title V may be viewed at the following link: www2.ed.gov/about/offices/list/ope/idues/eligibility.html.

Invitational Priority: For FY 2018 and any subsequent year in which we make awards from the list of unfunded applications from this competition, this priority is an invitational priority. Under 34 CFR 75.105(c)(1), we do not give an application that meets this invitational priority a competitive or absolute preference over other applications.

This priority is:

Applications that propose programs or activities focused on language instruction and/or performance testing and assessment to strengthen the preparation of international business professionals.

Program Authority: Title VI, part B, HEA (20 U.S.C. 1130-1).

Applicable Regulations: (a) The Education Department General Administrative Regulations in 34 CFR parts 75, 76, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The notice of final priorities for this program published in the Federal Register on June 3, 2014 (79 FR 31870).

Area of National Need: In accordance with section 601(c) of the HEA (20 U.S.C. 1121(c)), the Secretary consulted with a wide range of Federal agencies and received recommendations regarding national need for expertise in foreign language and world regions. These agencies' recommendations may be viewed on this web page: www2.ed.gov/about/offices/list/ope/iegps/index.html.

II. Award Information

Type of Award: Discretionary grants.

Estimated Available Funds: $4,571,400.

Contingent upon the availability of funds and the quality of applications, we may make additional awards in FY 2019 from the list of unfunded applications from this competition.

Estimated Range of Awards: $265,000-$305,000 per year.

Estimated Average Size of Awards: $285,000 per year.

Estimated Number of Awards: 16.

Note: The Department is not bound by any estimates in this notice. The estimated range and average size of awards are based on a single 12-month budget period. We may use FY 2018 funds to support multiple 12-month budget periods for one or more grantees.

Project Period: Up to 48 months.

III. Eligibility Information

1. Eligible Applicants: IHEs or consortia of IHEs.

2. Cost Sharing or Matching: This program requires cost sharing or matching. The matching requirement is described in section 612(e) of the HEA (20 U.S.C. 1130-1(e)(2)(3)(4)). The HEA requires that the Federal share of the cost of planning, establishing, and operating centers under this program shall be—

a. Not more than 90 percent for the first year in which Federal funds are received;

b. Not more than 70 percent for the second year; and

c. Not more than 50 percent for the third year and for each year thereafter.

The non-Federal share of the cost of planning, establishing, and operating centers under this program may be provided either in cash or in-kind.

Waiver of non-Federal share: In the case of an IHE receiving a grant under the CIBE Program and conducting outreach or consortium activities with another IHE, in accordance with section 612(c)(2)(E) of the HEA, the Secretary may waive a portion of the requirements for the non-Federal share equal to the amount provided by the IHE receiving the grant to the other IHE for carrying out the outreach or consortium activities. Any such waiver is subject to the terms and conditions the Secretary may deem necessary for carrying out the purposes of the program.

3. Subgrantees: Under 34 CFR 75.708(b) and (c), a grantee under this competition may award subgrants—to directly carry out project activities described in its application—to the following types of entities: IHEs, non-profit organizations, professional organizations, or businesses. The grantee may award subgrants to entities it has identified in an approved application or that it selects through a competition under procedures established by the grantee.

4. Other: (a) Reasonable and Necessary Costs: Applicants must ensure that all costs included in the proposed budget are necessary and reasonable to meet the goals and objectives of the proposed project. Any costs determined by the Secretary to be unreasonable or unnecessary will be removed from the final approved budget.

(b) Audits: (i) A non-Federal entity that expends $750,000 or more during the non-Federal entity's fiscal year in Federal awards must have a single or program-specific audit conducted for that year in accordance with the provisions of 2 CFR part 200. (2 CFR 200.501(a))

(ii) A non-Federal entity that expends less than $750,000 during the non-Federal entity's fiscal year in Federal awards is exempt from Federal audit requirements for that year, except as noted in 2 CFR 200.503 (Relation to Other Audit Requirements), but records must be available for review or audit by appropriate officials of the Federal agency, pass-through entity, and Government Accountability Office. (2 CFR 200.501(d))

IV. Application and Submission Information

1. Application Submission Instructions: For information on how to submit an application, please refer to our Common Instructions for Applicants to Department of Education Discretionary Grant Programs, published in the Federal Register on February 12, 2018 (83 FR 6003) and available at www.gpo.gov/fdsys/pkg/FR-2018-02-12/pdf/2018-02558.pdf.

2. Content and Form of Application Submission:Requirements concerning the content of an application, together with the forms you must submit, are in the application package for this program.

3. Recommended Page Limit: The application narrative (Part III of the application) is where you, the applicant, address the priorities, selection criteria, and application requirements that reviewers use to evaluate your application. We recommend that you (1) limit the application narrative to no more than 50 pages and (2) use the following standards:

• A “page” is 8.5” x 11”, on one side only, with 1” margins at the top, bottom, and both sides.

• Double space (no more than three lines per vertical inch) all text in the application narrative, except titles, headings, footnotes, quotations, references, and captions. Charts, tables, figures, and graphs in the application narrative may be single spaced and will count toward the recommended page limit.

• Use a font that is either 12 point or larger, or no smaller than 10 pitch (characters per inch). However, you may use a 10-point font in charts, tables, figures, and graphs.

• Use one of the following fonts: Times New Roman, Courier, Courier New, or Arial.

The recommended page limit does not apply to Part I, the Application for Federal Assistance face sheet (SF 424); the supplemental SF 424 form; Part II, Budget Information—Non-Construction Programs(ED 524); Part IV, the assurances, certifications, and the response to section 427 of the General Education Provisions Act; the table of contents; the one-page project abstract; the appendices; or the line item budget. However, the recommended page limit does apply to all of the application narrative section.

4. Intergovernmental Review: This program is subject to Executive Order 12372 and the regulations in 34 CFR part 79. Information about Intergovernmental Review of Federal Programs under Executive Order 12372 is in the application package for this program.

5. Award Basis: In determining whether to approve a grant award and the amount of such award, the Department will consider, among other things, the applicant's performance and use of funds under a previous or existing award under any Department program (34 CFR 75.217(d)(3)(ii) and 75.233(b). In assessing the applicant's performance and use of funds under a previous or existing award, the Secretary will consider, among other things, the outcomes the applicant has achieved and the results of any Departmental grant monitoring, including the applicant's progress in remedying any deficiencies identified in such monitoring.

6. Funding Restrictions: We specify unallowable costs in 34 CFR 660.40. We reference additional regulations outlining funding restrictions in the Applicable Regulations section of this notice.

V. Application Review Information

1. Selection Criteria: The selection criteria for this program are from section 612 of the HEA and 34 CFR 75.209 and 75.210. The maximum score for all of the selection criteria, taken together with the maximum number of points awarded to applicants that address the competitive preference priorities, is 110 points. The maximum score for each criterion is indicated in parentheses.

Note: In addressing the selection criteria printed below, refer to sections 611 and 612 of the HEA (20 U.S.C. 1130 and 1130-1).

(a) Meeting the purpose of the authorizing statute. (up to 20 points)

The Secretary reviews each application to determine how well the applicant describes how it will establish and operate Centers for International Business Education which—

(1) Will be national resources for the teaching of improved business techniques, strategies, and methodologies which emphasize the international context in which business is transacted;

(2) Will provide instruction in critical foreign languages and international fields needed to provide understanding of the cultures and customs of United States trading partners; and

(3) Will provide research and training in the international aspects of trade, commerce, and other fields of study.

(b) Significance. (up to 20 points)

In determining the significance of the proposed project, the Secretary considers—

(1) The national significance of the proposed project.

(2) The importance or magnitude of the results or outcomes likely to be attained by the proposed project.

Note: You may discuss the significance of regional and local activities to address selection criterion (b)(2).

(c) Quality of the project design. (up to 10 points)

In determining the quality of the design of the proposed project, the Secretary considers—

(1) The extent to which the proposed activities constitute a coherent, sustained program of research and development in the field, including, as appropriate, a substantial addition to an ongoing line of inquiry.

(d) Quality of the management plan. (up to 10 points)

In determining the quality of the management plan for the proposed project, the Secretary considers—

(1) The adequacy of the management plan to achieve the objectives of the proposed project on time and within budget, including clearly defined responsibilities, timelines, and milestones for accomplishing project tasks.

(e) Quality of project personnel. (up to 10 points)

In determining the quality of project personnel, the Secretary considers—

(1) The extent to which the applicant encourages applications for employment from persons who are members of groups that have traditionally been underrepresented based on race, color, national origin, gender, age, or disability.

(2) The qualifications, including relevant training and experience, of the project director or principal investigator.

(3) The qualifications, including relevant training and experience, of key project personnel.

Note: Briefly describe key staff and faculty in this section. Supplemental materials should include resumes for staff, business and other faculty, and some Advisory Board members, in alphabetical order, two resumes per page, single-spaced. Provide title including department, education, research and teaching experience, major publications, awards, etc. Suggested maximum length: 20 pages, 40 resumes.

(f) Adequacy of resources. (up to 10 points)

In determining the adequacy of resources for the proposed project, the Secretary considers—

(1) The extent to which the costs are reasonable in relation to the objectives, design, and potential significance of the proposed project.

(2) The adequacy of support, including facilities, equipment, supplies, and other resources from the applicant organization or the lead applicant organization.

(g) Quality of the project evaluation. (up to 20 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation are appropriate to the context within which the project operates.

(iii) The extent to which the methods of evaluation will provide timely guidance for quality assurance.

(iv) The extent to which the methods of evaluation will provide performance feedback and permit periodic assessment of progress toward achieving intended outcomes.

Note: Please carefully review the section on “Guidance on Developing an Evaluation Plan” in the application package for detailed instructions on how to address this criterion.

Note: Applicants should address these selection criteria only in the context of the program requirements in section 612 of the HEA, 20 U.S.C. 1130-1.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170, should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

Performance reports for the CIBE Program must be submitted electronically into the office of International and Foreign Language Education (IFLE) web-based reporting system, International Resource Information System (IRIS). For information about IRIS and to view the reporting instructions, please go to www.ed.gov/fund/grant/apply/appforms/appforms.html.

(c) Under 34 CFR 75.250(b), the Secretary may provide a grantee with additional funding for data collection analysis and reporting. If a grantee is provided additional funding for this purpose, the Secretary establishes a data collection period.

5. Performance Measures: Under the Government Performance and Results Act of 1993, the following measures will be used by the Department to evaluate the success of the CIBE Program:

(a) Percentage of CIBE Program participants who advanced in their professional field two years after their participation.

(b) Percentage of CIBE projects that established or internationalized a concentration, degree, or professional program with a focus on or connection to international business over the course of the CIBE grant period (long-term measure).

(c) Percentage of CIBE projects for which there was an increase in the export business activities of the project's business industry participants.

The information provided by grantees in their performance reports submitted via the International Resource Information System (IRIS) will be the source of data for these measures. Reporting screens for institutions can be viewed at: http://iris.ed.gov/iris/pdfs/CIBE.pdf.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov.

Specifically, through the advanced search feature at this site, you can limit your search to documents published by the Department.

Dated: May 9, 2018.
Frank T. Brogan,
Principal Deputy Assistant Secretary and Delegated the Duties of the Assistant Secretary, Office of Planning, Evaluation, and Policy Development, Delegated the Duties of the Assistant Secretary, Office of Postsecondary Education.

[FR Doc. 2018-10225 Filed 5-11-18; 8:45 am]

BILLING CODE 4000-01-P